DEPARTMENT OF HOMELAND SECURITY

Federal Emergency Management Agency

[Docket ID: FEMA-2013-0047; OMB No. 1660-NEW]

Agency Information Collection Activities: Submission for OMB Review; Comment Request; The SalesForce Customer Relationship Management System Webform Allowing an Individual To Submit Correspondence to FEMA

AGENCY: Federal Emergency Management Agency, DHS.

ACTION: Notice.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before March 31, 2014.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 1800 South Bell Street, Arlington, VA 20598-3005, facsimile number (202) 646-3347, or email address FEMA-Information-Collections-Management@dhs.gov.

SUPPLEMENTARY INFORMATION:

Collection of Information

Title: The SalesForce Customer Relationship Management System Web-form allowing an Individual to Submit Correspondence to FEMA.

Type of information collection: New information collection.

OMB Number: 1660—NEW.

Form Titles and Numbers: None.

Abstract: FEMA correspondence teams respond to questions from individuals covering various topics. Depending on the topic searched, the Customer Relationship Management queries the database of pre-approved questions and answers. If the search result does not provide the desired answer, the citizen is provided a link to the web-form to submit their inquiry (i.e. question/comment) to the proper component (i.e. program office) for a response. In general, a citizen's inquiry may range from publications requests, how to apply for grants, or reimbursement criterion. The minimal collection of Personally Identifiable Information is necessary for FEMA correspondence teams to carry out their mission of responding to citizens who seek assistance.

Affected Public: Individuals or households; Business or other for-profit; Not-for-profit institutions; Farms; Federal Government; State, Local, Tribal Government.

Estimated Number of Respondents: 25,000.

Estimated Total Annual Burden Hours: 833 hours.

Estimated Cost: The estimated annual cost to respondents for the hour burden is $25,664.73. There are no annual costs to respondents operations and maintenance costs for technical services. There is no annual start-up or capital costs. The cost to the Federal Government is $645,008.00.

Dated: February 20, 2014.
Charlene D. Myrthil,
Director, Records Management Division, Mission Support Bureau, Federal Emergency Management Agency, Department of Homeland Security.

[FR Doc. 2014-04418 Filed 2-27-14; 8:45 am]

BILLING CODE 9111-22-P